APPRAISAL SUBCOMMITTEE OF THE FEDERAL FINANCIAL INSTITUTIONS EXAMINATION COUNCIL

[Docket No. AS25-14]

Appraisal Subcommittee Notice; Change of Address

AGENCY: Appraisal Subcommittee of the Federal Financial Institutions Examination Council

ACTION: Notice.

SUMMARY: The Appraisal Subcommittee of the Federal Financial Institutions Examination Council (ASC) is issuing this notice to announce that the agency is changing its mailing address.

DATES: The new mailing address in this notice is effective December 19, 2025.

ADDRESSES: The new mailing address is Appraisal Subcommittee of the Federal Financial Institutions Examination Council, 1717 K Street NW, Suite 900, Washington, DC 20006. This address will be used for receiving all mail correspondence and payments for National Registry invoices.

FOR FURTHER INFORMATION CONTACT: Natalie Lutz, Attorney Advisor, 202-792-1217, natalie@asc.gov, Appraisal Subcommittee, 1717 K Street NW, Suite 900, Washington, DC 20006. The above phone number is not a toll-free number. Persons with hearing or speech impairments may access these numbers by dialing 7-1-1 to access telecommunications relay services.

SUPPLEMENTARY INFORMATION: Physical mail submitted to the ASC, including payments for National Registry invoices, is currently addressed to the agency at 1325 G Street NW, Suite 500, Washington, DC 20005. Effective December 19, 2025, any physical mail, including payments for National Registry invoices, sent to the ASC must be submitted to the new mailing address at: Appraisal Subcommittee of the Federal Financial Institutions Examination Council, 1717 K Street NW, Suite 900, Washington, DC 20006. The ASC's phone number will stay the same at 202-289-2735, including the fax number of 202-289-4101.

Dated: December 12, 2025.
Natalie Lutz,
Attorney-Advisor.

[FR Doc. 2025-22936 Filed 12-15-25; 8:45 am]

BILLING CODE 6700-01-P